DEPARTMENT OF DEFENSE

Office of the Secretary

[Docket ID: DoD-2023-OS-0024]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by September 15, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Independent Analysis and Recommendations on Domestic Abuse in the Armed Forces: Field Research; OMB Control Number: 0704-DAFR.

Type of Request: New.

Number of Respondents: 560.

Responses per Respondent: 1.

Annual Responses: 560.

Average Burden per Response: 1 Hour.

Annual Burden Hours: 560.

Needs and Uses: A comprehensive, independent analysis on the military-specific risk factors for domestic abuse (DA) and the best approaches across the coordinated community response system to mitigate those factors has never been conducted and is necessary to inform sustainable solutions to decrease incidents and prevent violence before it occurs. This project is required by the FY21 NDAA, section 549C, and will support (a) the programmatic needs of the sponsoring office—the Family Advocacy Program within the Military Community Advocacy Directorate in Military Community and Family Policy, (b) Congressional requirements per Section 549C of the FY21 National Defense Authorization Act, (c) the current administration's priority to address gender-based violence, and (d) implementation of some recommendations contained in the U.S. Government Accountability Office Report 21-289 (May 2021). The overall project is wide ranging, from an epidemiological analysis to predict stages of military service where risk is highest for domestic violence, to an analysis of age-appropriate and positively focused prevention training for school-aged children, to assessing whether prevention would be enhanced by raising the disposition authority for domestic violence offenses.

Affected Public: Individuals and households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 10, 2023.
Aaron T. Siegel,
Alternate OSD Federal Register Liaison Officer, Department of Defense.

[FR Doc. 2023-17545 Filed 8-15-23; 8:45 am]

BILLING CODE 5001-06-P